DEPARTMENT OF AGRICULTURE

Rural Business-Cooperative Service

Rural Housing Service

Rural Utilities Service

[Docket No. RBS-21-CO-OP-0011]

Notice of Funds Availability for the Rural Placemaking Innovation Challenge (RPIC) for Fiscal Year 2021

AGENCY: Rural Business-Cooperative Service (RBCS), Rural Utilities Service (RUS), Rural Housing Service (RHS), USDA.

ACTION: Notice of funds availability.

SUMMARY: The Deputy Under Secretary for Rural Development (RD) is seeking applications for the Rural Placemaking Innovation Challenge (RPIC) from eligible entities to provide technical assistance and training to rural communities for placemaking planning and implementation. This funding opportunity will be administered by the USDA Rural Development Innovation Center and is authorized by the Agriculture, Rural Development, Food and Drug Administration, and Related Agencies Appropriations Act, 2021, to provide up to $3 million in competitive cooperative agreement funds. This announcement lists the information needed to submit an application.

DATES: Applications for RPIC cooperative agreement(s) must be submitted electronically through Grants.gov by 11:59 p.m. Eastern Daylight Time by July 26, 2021. Applications received after 11:59 p.m. Eastern Daylight Time on July 26, 2021 will not be considered.

Comments related to the collection of information must be submitted by July 26, 2021. Follow directions provided in Section IX of this notice.

ADDRESSES:

Application Submission: The application system for electronic submissions will be available at https://www.grants.gov/.

Electronic submissions: The electronic submission of an application will allow for the expeditious review of an applicant's proposal. As a result, all applicants must file their application electronically.

FOR FURTHER INFORMATION CONTACT: USDA Rural Development, Innovation Center, via email at: RD.RPIC@usda.gov, or via phone at: Angela Callie 202-568-9738 or Greg Dale 202-568-9558. Persons with disabilities who require alternative means for communication should contact the U.S. Department of Agriculture (USDA) Target Center at (202) 720-2600 (voice). The last day for accepting questions on this notice will be July 26, 2021.

SUPPLEMENTARY INFORMATION: Authority: This solicitation is issued pursuant to 7 U.S.C. 2204b(b)(4).

Overview

Federal Agency: Rural Business-Cooperative Service (RB-CS), Rural Utilities Service (RUS), and Rural Housing Service (RHS), (USDA).

Funding Opportunity Title: Rural Placemaking Innovation Challenge (RPIC).

Announcement Type: Notice of Funds Availability (NOFA).

Catalog of Federal Domestic Assistance (CFDA) Number: Rural Placemaking Innovation Challenge (RPIC)—10.890.

Due Date for Applications: Applications for RPIC cooperative agreement(s) must be received by 11:59 p.m. on July 26, 2021. Applications received after 11:59 p.m. Eastern Daylight Time on July 26, 2021 will not be considered.

Items in Supplementary Information

I. Program Overview

II. Federal Award Information

III. Definitions

IV. Eligibility Information

V. Application and Submission Information

VI. Application Review Information

VII. Federal Award Administration Information

VIII. Federal Awarding Agency Contacts

IX. Other Information

I. Program Overview

A. Background

The Rural Placemaking Innovation Challenge is a technical assistance and planning process for qualified entities to support rural community leaders to create places where people want to live, work, and play. This initiative is to provide planning support, technical assistance, and training to communities to foster placemaking activities in rural communities. Funds can help enhance capacity for broadband access, preserve cultural and historic structures, and support the development of transportation, housing, and recreational spaces. Applicants must demonstrate existing and proposed partnerships with public, private, philanthropic, and community partners to provide assistance. This funding announcement supports the delivery of technical assistance and training in visioning, planning, and assisting communities to implement placemaking efforts in rural communities under the Rural Placemaking Innovation Challenge (RPIC).

B. Program Description

RD is authorized to administer cooperative agreement awards in accordance with 7 U.S.C. 2204b(b)(4). The intention of RPIC is to provide cooperative agreement funding to eligible applicants working to promote public-private-philanthropic partnerships in rural communities that encourage economic and social development. These projects are intended to support rural America and align with the mission of existing USDA RD programs to increase rural economic growth and improve the quality of life in rural America by supporting essential services such as housing, economic development, and required infrastructure.

For purposes of this notice, Technical Assistance and Training for Placemaking is defined in Part III.

RPIC operates under the following concepts:

• Creating livable communities is important for community developers and practitioners who implement these strategies in rural communities and areas.

• Placemaking practices include both innovative and adaptive as well as established technical processes and solutions.

• Partnerships are a key element to the RPIC and must be developed with public, private, and philanthropic organizations creating new collaborative approaches, learning together, and bringing those learned strategies into rural communities.

• Placemaking contributes to long-term investment and therefore supports a community's resiliency, social stability, and collective identity.

• Broadband is an essential component to supporting placemaking initiatives.

For the purpose of this notice, placemaking is the process of creating quality places where people want to live, work, and play. Ultimately, the goal is to create greater social and cultural vitality in rural communities aimed at improving people's social, physical, and economic well-being. The key elements of quality places include, but are not limited to, a mix of uses; effective public spaces; broadband capability; transportation options; multiple housing options; preservation of historic structure; and respect of community heritage, arts, culture, creativity, recreation, and green space.

Throughout the placemaking process applicants are expected to involve public, private, philanthropic, and community partners; this work is to be based on a sense of place with qualitative and quantitative outcomes.

II. Federal Award Information

A. Catalog of Federal Domestic Assistance (CFDA) Number: 10.890.

Catalog of Federal Domestic Assistance (CFDA) Title: Rural Placemaking Innovation Challenge.

B. Funds Available

The amount available for RPIC FY 2021 is up to $3 million. Lead applicants may not submit more than one application but may identify more than one community with which they are providing placemaking assistance. The maximum award amount for any one applicant is $250,000. RD reserves the right to withhold the awarding of any funds if no application receives a minimum score of at least 60 points. There is no commitment by USDA to fund any application that does not achieve the minimum score.

This funding opportunity lists the information needed to apply for these funds and announces that RD is accepting FY 2021 applications to support RPIC.

C. Approximate Number of Awards

The Agency anticipates that it may select one, multiple, or no award recipients from this funding opportunity. Applicants may not submit more than one application.

D. Type of Instrument

RD is authorized to administer cooperative agreement awards in accordance with 7 U.S.C. 2204b(b)(4) for the Rural Placemaking Innovation Challenge.

E. Period of Performance

The maximum Period of Performance is 2 years. Applicants should anticipate a Period of Performance beginning October 1, 2021 and ending no later than September 30, 2023.

III. Definitions

The terms and conditions provided in this Notice of Funds Availability (NOFA) are applicable to and for the purposes of this NOFA only. Unless otherwise provided in the award documents, all financial terms not defined herein shall have the meaning as defined by Generally Accepted Accounting Principles (GAAP).

Capacity (for eligibility) is defined as previous experience with federal grant administration and demonstrated experience in economic development and placemaking technical assistance.

Cooperative Agreement Elements mean the cooperative agreements to be funded through RPIC directly support Rural Development's goals of increasing rural economic growth. As part of the placemaking planning process, required infrastructure, community facilities, housing and/or business development to support the ultimate placemaking goal are documented. In addition, existing assets that can be leveraged in support of a placemaking vision are evaluated, and funding strategies and sources to enhance or construct new assets are identified. Cooperators are expected to have expertise in placemaking and partnerships that will enable a rural community, area, or region to ultimately implement a placemaking strategy and improve the quality of life for its citizens.

Multi-jurisdictional means more than one jurisdiction where jurisdiction refers to a unit of government or other entity with similar powers, such as a city, county, district, special purpose district, township, town, borough, parish, village, state, Indian tribe, etc.

Multi-sectoral means intentional collaboration between two or more sectors (e.g., utility, health, housing, community services, etc.) to accomplish goals and achieve outcomes in communities and regions.

Placemaking means a process involving public, private, philanthropic and community partners working together to strategically improve the social, cultural, and economic structure of a community. This work is based on a sense of place with qualitative and quantitative outcomes.

Placemaking Plan means a written document that describes the strategic plan for the community to implement the goals and objectives identified through the placemaking planning process.

Quality of life means a measure of human well-being that can be identified though economic and social indicators. Modern utilities, affordable housing, efficient transportation, and reliable employment are economic indicators that must be integrated with social indicators such as access to medical services, public safety, education, and community resilience to empower rural communities to thrive.

Region (Four Regions) means:

• The Northeast includes Maine, New Hampshire, Vermont, Massachusetts, Rhode Island, Connecticut, New York, New Jersey, Delaware, Maryland, Virginia, West Virginia, and Pennsylvania.

• The Midwest includes Ohio, Michigan, Indiana, Wisconsin, Illinois, Minnesota, Iowa, Missouri, North Dakota, South Dakota, Nebraska, and Kansas.

• The South includes Kentucky, North Carolina, South Carolina, Tennessee, Georgia, Florida, Alabama, Mississippi, Arkansas, Louisiana, Texas, Puerto Rico, Virgin Islands and Oklahoma.

• The West includes Montana, Idaho, Wyoming, Colorado, New Mexico, Arizona, Utah, Nevada, California, Oregon, Washington, Alaska, Hawaii, and U.S. Pacific Island Territories.

Rural area means the Rural Business Service's Rural Area definition as outlined in Section 343(a)(13)(A)(i) of the Agricultural Act of 1961 & Consolidated Farm and Rural Development Act which defines “rural area” as any area other than (1) a city or town that has a population of greater than 50,000 inhabitants and (2) any urbanized area contiguous and adjacent to such city or town described in subparagraph (1) above.

Sector means stakeholders from areas such as business, health, education, and/or workforce; or from organization types such as public, private, non-profit, and/or philanthropy.

Technical Assistance and Training for Placemaking means the applicant participates in the complete process for the delivery of placemaking planning and implementation in partnership with identified rural communities. The support provided may include, but is not limited to:

• Evidence-based understanding of community assets, challenges, and opportunities,

• A description of the distinct qualities of the community—both positive and negative,

• A vision statement that summarizes the most important outcomes that the community wants to see achieved,

• A statement of values that identifies the principles that leaders and stakeholders should use in determining strategies, and

• Evidence of broad community participation, public input, and buy-in.

Commonly used Acronyms:

DCI Distressed Communities Index

DUNS Data Universal Numbering System

FY Fiscal Year

HBCU Historically Black Colleges and Universities

LOC Letter of Conditions

NEPA National Environmental Policy Act

NICRA Negotiated Indirect Cost Rate Agreement

RD Rural Development

RDCA Rural Development Cooperative Agreement

RPIC Rural Placemaking Innovation Challenge

SAM System for Award Management

SBA Small Business Administration

USDA United States Department of Agriculture

CFR Code of Federal Regulation

SPOC Single Point of Contact

IV. Eligibility Information

A. Applicants

Applicants must meet the following eligibility requirements by the application deadline. Applications that fail to meet any of these requirements by the application deadline will be deemed ineligible and will not be evaluated further and will not receive a Federal award.

Applicant Eligibility: Federally recognized Tribes and Native American Tribal Organizations; institutions of higher education (including 1862 Land-Grant Institutions, 1890 Land-Grant Institutions, 1994 Land-Grant Institutions, Hispanic-Serving Institutions, and Historically Black Colleges and Universities (HBCU)); nonprofit organizations with 501(c)(3) IRS status; public bodies or small private entities meeting the size standards established by the U.S. Small Business Administration (SBA).

All eligible applicants must demonstrate the capacity to deliver and support rural placemaking planning activities within at least one of the four regions found in Part III. Capacity is defined as previous experience with federal grant administration and demonstrated experience in economic development and placemaking technical assistance.

Entities are not eligible if they have been debarred or suspended or otherwise excluded from, or ineligible for, participation in Federal assistance programs under 2 CFR parts 180 and 417. In addition, an applicant will be considered ineligible for a cooperative agreement due to an outstanding judgment obtained by the U.S. in a Federal Court (other than U.S. Tax Court) or if the applicant is delinquent on the payment of Federal income taxes or Federal debt.

B. Eligible Project

The proposed project must include a component that allows for active participation by the Cooperator and substantial involvement by RD in the majority of specified tasks outlined in the applicant's project proposal. Examples of measurable substantial involvement include, but are not limited to, the following: Joint convenings of community members, partners, and stakeholders; joint delivery of training for RD programs; and the development of training sessions and outreach materials. It is the intent of this project to engage RD staff in the placemaking process, and it is the responsibility of the applicant to identify specific tasks where RD staff can provide measurable, substantial involvement in the project. If such tasks are not identified, the application will not be eligible for funding.

The project must also directly benefit a rural area. All ultimate beneficiaries and/or subrecipients must be located in rural areas, and any activities or tasks must occur in rural areas.

Duplication of services is not allowed. Applicants must demonstrate that they are providing services either to new customers or new services to current customers. If the applicant's workplan and budget are duplicative of a previous and/or existing RPIC award, the application will not be considered for funding. RD will make this determination.

C. Cost Sharing and Matching Funds Verification

(1) A minimum 15 percent match of the federal grant amount requested for the cooperative agreement award is required for all applications. Matching commitments may be made in cash by the applying organization, or a combination of cash and confirmed funding commitments with third-party in-kind contributions as defined in 2 CFR 200.96. This minimum match of at least 15 percent of the federal amount requested must be committed for a period of not less than the cooperative agreement performance period. Cost sharing/matching must be committed at the time of application submission.

(2) Applicants may recruit one or more private, philanthropic, and/or eligible public partner(s) to provide the matching fifteen percent 15 percent (in cash and/or in-kind contributions) of the applicant's proposed federal funding request (i.e., the federal grant amount requested), or the applicant can provide the full match as their own CASH contribution. It is permissible to provide a combination of third party in-kind contribution (as defined in 2 CFR 200.96) from a partner and CASH contribution from the applicant, but it is not permissible for the applicant to provide their own in-kind contribution as part of the match combination. If the applicant is going to provide their own match contribution, that match must be documented as a CASH contribution.

(3) Verification of Matching Funds: The Matching Funds Letter must be signed by the donating organization's authorized representative on the organization's letterhead and must identify the amount of matching funds or in-kind services/goods, the time period during which matching contribution will be available, and the source of the funds, as applicable (e.g., cash on hand, etc.).

• If providing an in-kind match, the third-party contributor must provide details on how those in-kind sources will be identified and tracked by the contributor.

• The contributor must also attach/stipulate the value of each of the goods or services (including the indirect/direct costs) being offered.

• If using calculated hours for estimating any in-kind service, the contributor must also provide how the value was arrived at for calculating the total cost for the in-kind match and associated personnel, as applicable.

Additional details about cost sharing or matching funds/contributions are located at 2 CFR 200.306. Applicant matching funds must be included in the budget justification. For matching funds offered by project partners, a separate Matching Funds Letter is required for each cash and/or in-kind match contribution. Matching Funds Letters must be signed by the authorized organizational representative of the contributing organization and the applicant organization, which must include:

• The name, address, and telephone number of the contributor,

• the name of the applicant organization,

• the title of the project for which the contribution is made,

• the dollar amount of the contribution, and

• a statement that the contributor commits to furnish the contribution during the cooperative agreement period.

Applications without signed written commitments are deemed incomplete and will be ineligible. The value of applicant contributions to the project is established according to Federal cost principles. Applicants should refer to 2 CFR 200.306 for additional guidance on matching funds, in-kind contributions, and allowable costs.

D. Funding Restrictions

The following funding restrictions also apply to this program:

(1) Pre-award costs are not authorized.

(2) Use of Funds. Awards funds should be calculated based on the federal amount requested by the applicant. A minimum of 15 percent match is required per Part IV. Section C.

(3) Indirect Cost Rate. The indirect cost rate is limited to 10 percent of direct charges for all nonprofit institutions, including institutions of higher education. All other organizations must use the rate identified in their NICRA. If you do not have a NICRA, you may elect to charge only direct costs to the award. If you have never had a NICRA, you may also choose to use a de minimis rate of 10 percent of modified total direct costs in accordance with 2 CFR 200.414(f). Your indirect cost rate must be included on Form SF-424A.

(4) The applicant may not use their administrative overhead or indirect costs as any part of their matching funds contribution. Using an indirect cost rate or administrative overhead for a matching fund contribution will be deemed as an ineligible use of funds for the cooperative agreement.

(5) Program Income. If you expect to earn Program Income during the Period of Performance, you must identify the amount and how you expect to use it (e.g., matching funds) in your application. If your application is funded, unexpected Program Income or Program Income earned in excess of the amount you identify in your application will be deducted from the Federal share of the project in accordance with 2 CFR 200.307(e)(1).

E. Ineligible Project Costs

In addition to costs identified as unallowable by 2 CFR part 200 or 400, the following costs are prohibited for this program. Neither award funds nor matching funds can be used to pay for the following types of expenses (this is not a comprehensive list of unallowable costs, see 2 CFR part 200).

(1) Construction (in any form).

(2) Intermediary preparation of strategic plans for recipients.

(3) Grants to individuals.

(4) Funding a grant where there may be a conflict of interest, or an appearance of a conflict of interest, involving any action by the Agency.

(5) Purchasing real estate.

(6) Using cooperative agreement assistance or matching funds for individual development accounts.

(7) Purchasing vehicles.

(8) To pay an outstanding judgment obtained by the United States in a Federal Court (other than in the United States Tax court), which has been recorded. An applicant will be ineligible to receive an award until the judgment is paid in full or otherwise satisfied.

V. Application and Submission Information

A. Electronic Application and Submission

Applications must be submitted electronically using Grants.gov. No other form of application will be accepted. Application and supporting materials are available at Grants.gov. Your application must contain all required information.

To apply electronically, you must follow the instructions for this funding announcement at Grants.gov. Please note that we will not accept applications through mail or courier delivery, in-person delivery, email, or fax.

You can locate the Grants.gov downloadable application package for this program by using a keyword, the program name, or the Catalog of Federal Domestic Assistance Number for this program.

When you enter the Grants.gov website, you will find information about applying electronically through the site as well as the hours of operation.

To use Grants.gov, you must already have a Data Universal Number System (DUNS) number and you must also be registered and maintain registration in the System for Award Management (SAM). We strongly recommend that you do not wait until the application deadline date to begin the application process through Grants.gov.

RD is not responsible for any technical malfunction or website problems related to Grants.gov. If issues are encountered with Grants.gov, please contact the Grants.gov help desk at (800) 518-4726 or support@grants.gov. The applicant assumes the risk of any delays in application submission through Grants.gov.

Submitting an application through Grants.gov requires completing a variety of tasks and steps. There are also several preliminary registration steps before the applicant can submit the application. It is recommended that the instructions for registering be reviewed as soon as possible but at least two weeks before the planned application submission date.

You must submit all application documents electronically through Grants.gov. Applications must include electronic signatures. Original signatures may be required if funds are awarded.

After applying electronically through Grants.gov, you will receive an automatic acknowledgement from Grants.gov that contains a Grants.gov tracking number.

B. Content and Form of Application Submission

For an application to be considered complete, the applicant must complete and submit the forms contained in this section in addition to the written narrative proposal information in Part VI.

(1) Applicants must complete and submit the following forms to apply for an RPIC cooperative agreement:

(a) Standard Form 424, “Application for Federal Assistance—Non-construction.”

(b) Standard Form 424A, “Budget Information—Non-Construction Programs.”

(c) Standard Form 424B, “Assurances—Non-Construction Programs.”

(d) Risk Review: RD may request additional documentation from selected applicants in order to evaluate the financial, management, and performance risk posed by awardees as required by 2 CFR 200.205. Based on this risk review, RD may apply special conditions that correspond to the degree of risk assessed.

(e) Civil Rights Compliance Requirements: All awards made under this notice are subject to Title VI of the Civil Rights Act of 1964 as required by 7 CFR part 15, subpart A, Section 504 of the Rehabilitation Act of 1973, the Americans with Disabilities Act (ADA) of 1990, and the Age Discrimination Act of 1975.

(f) Execute Form RD 400-1 “Equal Opportunity Agreement.”

(g) National Environmental Policy Act: This notice has been reviewed in accordance with 7 CFR part 1970, “Environmental Policies and Procedures.” We have determined that an Environmental Impact Statement is not required because the issuance of regulations and instructions, as well as amendments to them, describing administrative and financial procedures for processing, approving, and implementing the Agency's financial programs is categorically excluded in the National Environmental Policy Act (NEPA) regulation found at 7 CFR 1970.53(f). It has been determined that this Funding opportunity does not constitute a major Federal action significantly affecting the quality of the human environment.

(2) All applications shall be accompanied by the following supporting documentation in concise written narrative form:

Content and Format—Each page must be on numbered, letter-sized (8½ x 11) paper utilizing a white background that has 1″ margins, and the text of the application must be typed, single spaced, black, and in a font no smaller than 12 point.

Written Proposal—The written proposal should be assembled into one or more .pdf file(s) and should conform to the order in which the Evaluation Criteria are presented in Part VI Section B. The completed .pdf file(s) should be uploaded into Grants.gov as an attachment to the application. The maximum limit for the written narrative section is 25 pages. Information exceeding 25 pages for the written narrative may not be considered for evaluation by the scoring panel.

C. DUNS Number and SAM

To be eligible (unless you are excepted under 2 CFR 25.110(b), (c) or (d)), you are required to do the following:

(1) Provide a valid DUNS number in your application. The DUNS number can be obtained at no cost via a toll-free request line at (866) 705-5711;

(2) Register in SAM before submitting your application. You may register in SAM at no cost at https://www.sam.gov/portal/public/SAM/. You must provide your SAM CAGE Code and expiration date. When registering in SAM, you must indicate you are applying for a federal financial assistance project or program or are currently the recipient of funding under any federal financial assistance project or program; and

(3) Maintain active and current SAM registration. The SAM registration must remain active with current information at all times while the Agency is considering an application or while a federal grant/cooperative agreement award or loan is active. To maintain the registration in the SAM database, the applicant must review and update the information in the SAM database annually from date of initial registration or from the date of the last update. The applicant must ensure that the information in the database is current, accurate, and complete. Applicants must ensure they complete the Financial Assistance General Certifications and Representations in SAM.

If you have not fully complied with all applicable DUNS and SAM requirements, the Agency may determine that the applicant is not qualified to receive a federal award, and the Agency may use that determination as a basis for making an award to another applicant. In accordance with OMB Memoranda M-20-26, the Agency can accept an application without an active SAM registration. However, the registration must be completed before an award is made. For current registrants in SAM, to help reduce burden, there will be a 180-day extension for SAM.gov registrations that have expiration dates ranging between April 1, 2021, and September 30, 2021. This effort is intended as relief for those otherwise required to re-register during that time frame. Each entity registration will have 180 days added to its expiration date. As an example, an entity that is set to expire on April 1, 2021 will be automatically granted an extension to September 28, 2021.

D. Submission Dates and Times

In order to be considered for funds under this notice, applications must be deemed complete and must be received by Grants.gov by the deadline specified in the DATES section of this notice.

E. Intergovernmental Review

Executive Order (E.O.) 12372, Intergovernmental Review of Federal Programs, applies to this program. This E.O. requires that federal agencies provide opportunities for consultation on proposed assistance with state and local governments. Many states have established a Single Point of Contact (SPOC) to facilitate this consultation. For a list of states that maintain a SPOC, please see the White House website: https://www.whitehouse.gov/wp-content/uploads/2020/04/SPOC-4-13-20.pdf.

If your state has a SPOC, you may submit a copy of the application directly for review. Any comments obtained through the SPOC must be provided to your State Office for consideration as part of your application. If your state has not established a SPOC, or if you do not want to submit a copy of the application, our State Offices will submit your application to the SPOC or other appropriate agency or agencies. Indian tribes are exempt from this requirement.

F. Compliance With Other Federal Statutes and Other Submission Requirements

(1) Other Federal Statutes. The applicant must certify to compliance with other Federal Statutes and regulations by completing the Financial Assistance General Certification and Representations in SAM, including, but not limited to the following:

(a) 7 CFR part 15, subpart A—Nondiscrimination in Federally Assisted Programs of the Department of Agriculture—Effectuation of Title VI of the Civil Rights Act of 1964. Civil Rights compliance includes, but is not limited to the following:

(i) Collect and maintain data provided by ultimate recipients on race, sex, and national origin and ensure that ultimate recipients collect and maintain this data;

(ii) Race and ethnicity data will be collected in accordance with Office of Management and Budget (OMB) Federal Register Notice, “Revisions of the Standards for the Classification of Federal Data on Race and Ethnicity” (published October 30, 1997 at 62 FR 58782). Sex data will be collected in accordance with Title IX of the Education Amendments of 1972. These items should not be submitted with the application but should be available upon request by RUS; and

(b) The applicant and the ultimate recipient must comply with Title VI of the Civil Rights Act of 1964, Title IX of the Education Amendments of 1972, the Americans with Disabilities Act (ADA), Section 504 of the Rehabilitation Act of 1973, the Age Discrimination Act of 1975, Executive Order 12250, and 7 CFR part 1901, subpart E;

(c) 2 CFR parts 200 and 400 (Uniform Administrative Requirements, Cost Principles and Audit Requirements for Federal Awards), or any successor regulations;

(d) Executive Order 13166, “Improving Access to Services for Persons with Limited English Proficiency.” For information on limited English proficiency and agency-specific guidance, go to https://www.lep.gov/; and

(e) Federal Obligation Certification on Delinquent Debt.

VI. Application Review Information

A. General

The projects should address how existing assets can be leveraged in support of a placemaking vision and how the projects will be evaluated (e.g., how projects are evaluated for funding strategies and sources, construction of new assets to be identified in the planning process). Awardees will be Cooperators and are required to participate substantially in the project alongside RD staff to bring expertise in placemaking technical assistance, to bring partnerships that will enable a rural community, area or region to ultimately implement a placemaking strategy, and to improve the quality of life for its citizens.

Applicants are expected to provide proposals under this notice that include cooperation through substantial and measurable involvement by both the Cooperator and USDA Rural Development staff. Proposals will support multi-sectoral or multi-jurisdictional projects in rural communities and demonstrate how placemaking technical assistance will be provided to develop implementation plans that can be aligned with the mission of USDA Rural Development to improve quality of life and economic growth. The proposal must provide a detailed description of (i) the area to be served and (ii) how such area fits the definition of a region, multi-sectoral, or multi-jurisdictional rural area. Funding will be prioritized to ensure geographic diversity, so there will be at least one proposal awarded per Region, as defined in Part III. Applicants must identify which Region or Regions are included in their proposal. If applicants propose to serve more than one Region, they must also identify a primary Region.

Applicants for RPIC should be prepared to develop, be in the process of developing, or have developed a placemaking plan in partnership with public, private, or philanthropic partners with the focus on local or regional revitalization towards economic vitality and quality of life impacts. The plans should identify potential projects that can be funded through RD programs and other federal, state, local or private sector resources. Placemaking plans developed through this funding opportunity should focus on one or more of the Quality of Life indicators as defined in Part III.

Applicants are expected to submit placemaking proposals under this notice that include multi-sectoral or multi-jurisdictional planning partnerships within at least one Region (as defined in Part III) that will provide measurable results in helping rural communities create greater social and cultural vitality in rural communities. RPIC projects should also support rural communities' ability to qualify for priority funding under Section 379H of the Consolidated Farm and Rural Development Act, “Strategic economic and community development,” [7 U.S.C. 2008].

For the purpose of RPIC, rural placemaking is: (1) Rooted in emphasizing partnerships and collaboration among multiple public, private, philanthropic and community partners; (2) focused on combining federal, tribal, state, and local resources to make wide-ranging quality-of-life impacts as opposed to separate, piecemeal, incremental improvements; and (3) based on placemaking processes to create quality places where people want to live, work, and play. Ultimately, the goal is to create greater social and cultural vitality in rural communities. The key elements of quality places include, but are not limited to, a mix of uses; effective public spaces; broadband capability; transportation options; multiple housing options; disposition and rehabilitation of vacant structures; preservation of historic properties; and respect of community heritage, arts, culture, creativity, recreation, and green space.

Applications will first be reviewed to determine if they meet the eligibility requirements and compliance with the funding restrictions in this notice. If we determine that your application is ineligible, we will discontinue processing it, which means that we will not evaluate it further nor provide any scoring information. If your application is determined to be eligible, we will further evaluate it based on the scoring criteria listed in Part VI, Section B. All applications will be competitively scored and ranked. The minimum score requirement for a cooperative agreement award under this funding opportunity is 60 points.

Additionally, the applications will be reviewed for completeness. For an application to be considered complete, the applicant must complete and submit the written narrative proposal information and the forms contained in Parts V and VI in this NOFA. If we determine that your application is not complete, we will discontinue processing it, which means that we will not evaluate it further nor provide any scoring information.

B. Scoring Process

(1) Number of Awards: The Agency anticipates that it may select one, multiple, or no award recipients from this funding opportunity. The Agency reserves the right to withhold the awarding of any funds if no application receives a minimum score of at least 60 points.

(2) Evaluation Criteria: (refer to Summary Table of Evaluation Criteria).

Proposed projects will be evaluated based only on information provided in the application. Points will be given only for factors that are well documented in the application package and, in the opinion of RD, meet the objectives outlined in each of the evaluation criteria. References to websites or publications will not be reviewed. Full documentation and support of application criteria is encouraged.

(3) The entire written narrative proposal includes the following sections in this order:

(a) Executive Summary—Provide the applicant entity name, duration of project (in months), amount of Federal funding requested, amount of non-Federal cost-share/match funding committed, and project title. Identify geographic locations (including the primary region in which the applicant determines where the most significant work takes place) and describe, in non-technical language, the placemaking approach to be used including the objectives and strategies to be utilized; the public, private, and philanthropic partnerships developed or to be developed; the approach to be employed (including the role of participating partners); how impact will be quantified; and the predicted benefits or deliverables of the project(s). Briefly describe applicant's past experience in federal grant administration, economic development, and specific placemaking technical assistance.

(b) Work Plan—Soundness of Approach (0-30 points). The applicant can receive up to 30 points for soundness of placemaking approach in their work plan. The maximum 30 points for this criterion will be based on the following:

(i) Work Plan Approach—project objectives/background/tasks with timeline and timeframes (0-10 Points)

• Project Objective(s): Description of objective(s)—clearly defined.

• Project Background: Description of the types and general locations of rural communities to be served through this project—Geographic Location or Project Areas (include Region description).

• Describe project area(s) as multi-sectoral or multi-jurisdictional. Applicant must include their ability to support rural planning activities on a multi-sectoral or multi-jurisdictional basis and how they will effectively serve these communities based on key personnel, established timeframes, and budget.

• Project Key Tasks with Timeline and Timeframes:

—Applicants are required to include Work Plan Chart(s) that lists major task(s) by key personnel involved, time period of the task(s), substantial involvement of RD staff, expected deliverables, and budget associated with tasks.

—Applicants may provide timelines to demonstrate how the technical assistance will be delivered to rural communities and describe any supporting innovative and/or traditional placemaking approaches associated to tasks.

(ii) Implementation of Workplan—Planning through the Implementation Phase (0-10 points)

• Project Implementation:

Applicant should include details on how the technical assistance will be provided for the placemaking planning process and how it will coach/mentor the community to bring the plan to full implementation.

(iii) Alignment of Budget/Budget Justification to Workplan (0-10 points)

• Detailed Budget Justification should align with the tasks detailed in the workplan. Discuss how the budget specifically supports the proposed activities discussed in the Project Key Tasks (as described above). Justify project costs including personnel and any limited consultant salaries with description of duties. The budget justification should include both the Federal funds requested and the applicant's matching funds. The format of the budget's narrative can be in a chart, spreadsheet, table, etc., but it should be readable on letter-size, printable pages. The information needs to be presented in such a way that the reviewers can readily understand what expenses are incurred to support the project. Statement(s) of work for any subcontractors and consultants must be included as part of the application. (Note: Consultants and subcontracts must only be used on a very limited basis. The majority of the primary work under the cooperative agreement MUST be performed by the applicant).

(c) Organizational Capacity & Qualifications (0-20 points). The applicant can receive up to 20 points based on organizational capacity and qualifications. The maximum 20 points for this criterion will be based on the following:

(i) The applicant should specify years of experience in placemaking activities, types of communities previously served, and experience in performance evaluation. (0-10 points)

(ii) The applicant's proposal should demonstrate that the applicant has identified appropriate key personnel, both in terms of number of personnel and qualifications of personnel and should provide specific detail of qualifications of key personnel relating to placemaking. Capacity of personnel to access data for needs assessments and access to planners and other technical experts will be evaluated. (0-10 points)

(d) Partnerships (0-20 points). The applicant can receive up to 20 points for quantity and quality of the applicant's existing public, private, and philanthropic partnerships and proposed new partnerships for this effort. The applicant should demonstrate their ability to leverage new partners that have had limited engagement with RD projects or priorities to leverage resources, enhance technical assistance, and/or increase reach to target areas. The maximum 20 points for this criterion will be based on the following:

(i) The applicant should provide a list of potential partners, existing or new, who might commit to the project as well as a description of the sectors they represent (i.e., public, private, philanthropic). (0-10 points)

(ii) The applicant should describe how they will engage with new and existing partners to support the project as well as how they can leverage partner resources. (0-10 points)

(e) Targeted Impacts (0-20 points). The applicant can receive up to 20 points for focusing on either or both of the following Targeted Impacts:

(i) Economically Distressed Communities. The applicant should describe how the proposal will address specific socioeconomic indicator(s) and the strategies to be utilized. The Distressed Communities Index (DCI) is considered a good tool for identifying economically distressed communities. (https://ruraldevelopment.maps.arcgis.com/apps/webappviewer/index.html?id=06a26a91d074426d944d22715a90311e)

(A) Describe how the applicant plans to address Economically Distressed Communities in its placemaking strategies/activities. What specific actions will be taken, and how do these proposed actions impact Economically Distressed Communities?

(B) What community data does the applicant plan to use to provide foundational context to its placemaking efforts?

(C) What measurable outcomes related to Economically Distressed Communities does the applicant plan to track? How will the applicant know if its efforts are making progress toward addressing Economically Distressed Communities and achieving desired outcomes?

(ii) Broadband Planning for Infrastructure, Deployment, and/or Access.

(A) The applicant should propose how the project will create planning or other broadband infrastructure and/or e-connectivity opportunities within targeted areas. Describe how the applicant's proposal will help communities plan for broadband infrastructure around the USDA-RD ReConnect Program (provided that community is eligible for that program); or

(B) If the community(ies) the applicant is supporting already has a ReConnect funded project, describe how the applicant's proposal will provide follow-up and support for future broadband development or deployment; or

(C) If the community(ies) the applicant is supporting is not a participant in the ReConnect Program, describe how the applicant will work with stakeholders to address barriers to broadband development and deployment, or broadband access or e-connectivity.

When addressing this section, after answering (A), (B) or (C) also address:

• What community data does the applicant plan to use to provide foundational context to its placemaking efforts?

• What measurable outcomes related to broadband and e-connectivity does the applicant plan to track. How will the applicant know if its efforts are making progress toward addressing broadband and e-connectivity in its community and achieving desired outcomes?

(f) Performance Measures (0-10 points). The applicant can receive up to 10 points based on the proposed performance measures to evaluate the progress and impact of the proposed project.

The criterion will be based on the applicant's proposal and should include a description for how the results of the technical assistance will be measured, including the quality of life indicators (set forth in Part III) and the benchmarks to be used for measuring effectiveness. Indicators to be used should be specific and be quantifiable. (0-10 points)

(g) Optional Innovation Seed Grant (0-5 or 0-10 points) To foster public, private, and philanthropic engagement, not only through RPIC but for the community itself, the Innovation Seed Grant must be matched by no less than 50% match with additional external funding to support the community's project. The external funds can be from public, private, philanthropic, or other federal, state, and local partners. There are two ways to be scored based on how an applicant plans to implement the Innovation Seed Grant: The applicant could receive either up to 0-5 points, or up to 10 points. Note that Cooperators that implement seed grants as a part of their proposal will be subject to the relevant subaward/subrecipient components from 2 CFR part 200.

(i) Option 1—0 to 5 points Innovation Seed Grant:

• Applicants may receive up to 5 points in scoring if their proposal and budget provide for a system of funding an Innovation Seed Grant. The seed grants are to be utilized to fund a new and innovative project that is highlighted in the placemaking plan. These seed grants are considered small financial awards for the purpose of getting a specific project implemented in the plan. The applicant can set aside, from the applicant's award, funds for an Innovation Seed Grant. The maximum RPIC funds that can be set-aside for this purpose is 10 percent.

• Individual Innovation Seed Grants may be no more than $5,000 from RPIC funds, to an ultimate recipient in a community or for an entity applying for the grant. The seed grant must have matching funds of at least 50 percent from public, private, or philanthropic support; however, the applicant may have contributions from partnerships in excess of the minimum 50 percent match requirement.

OR

(ii) Option 2—0 to 10 points Innovation Seed Grant:

• Applicants may receive up to 10 points in scoring if their proposal and budget provide for a system of funding an Innovation Seed Grant that funds a new and innovative project that is highlighted in the placemaking plan and focuses on one of the Targeted Impacts listed in Part VI, Section B (e)(Targeted Impacts). The system should describe how the seed grant promotes and connects to the Targeted Impacts. These seed grants are considered small financial awards for the purpose of getting a specific project implemented. The applicant can set aside, from the applicant's award, funds for an Innovation Seed Grant. The maximum RPIC funds that can be set-aside for this purpose is 10 percent.

• Individual Seed Grants may be no more than $5,000 from RPIC funds, to an ultimate recipient in a community or for an entity applying for the grant. The Seed Grant must have matching funds of at least 50 percent from public, private, or philanthropic support; however, the applicant may have contributions from partnerships in excess of the minimum 50 percent match requirement.

(iii) Scoring the Innovation Seed Grant:

• The applicant should provide a brief narrative of how the Innovation Seed Grant will be developed, administered, and implemented.

• It is expected that the Cooperators, in collaboration with the communities

they are serving, will develop criterion for evaluating the Innovation Seed Grant for approval by a Seed Grant Committee. For evaluation of these criterion, applicants may provide sample criterion on how Seed Grants could be evaluated for:

—Innovation,

—Whether the project has been highlighted in the Placemaking Plan, and

—The probability of success and sustainability with identified outcomes to be achieved.

• The applicant MUST provide documentation of third-party matching funds contribution. These matching funds are separate from the verified matched funds required for the RPIC application. The Matching Funds Letter for the seed grants MUST specifically state that the funds are being allocated to the Innovation Seed Grant. The letter may be conditioned to the applicant receiving the award. (Failing to provide verification of match disqualifies the applicant from this optional scoring criteria).

(h) Agency Discretionary Points (0-10 points): The Agency may, in individual cases, make an exception to any requirement or provision of this notice, which is determined to be in the Government's interest. The applicant does not need to provide additional information under this category. Information in the applicant's proposal will be used to score this category, if applicable.

The Agency may choose to award points to eligible applicants who have never previously been awarded an RPIC cooperative agreement. The Agency may also choose to award up to 10 points to an application that addresses any of the following factors: geographic, demographic, economic diversity of awardees.

(i) Verification of Matching Funds. The applicant must include Matching Commitment Letters signed by the donating organization's authorized representative on the organization's letterhead that identifies the amount of matching funds or in-kind services, the time period during which matching funds will be available, and the source of the funds (e.g., cash on hand). See Part IV, Section C (Cost Sharing and Matching Funds Verification) for more information. If participating in the Optional Innovation Seed Grant, the applicant must submit separate Matching Funds Commitment Letters that specifically annotate that funds are allocated to the Innovation Seed Grant. The funds are a cash commitment to the seed grant.

(j) Letters of Support (e.g., additional resource commitment from partners);

(k) Appendix—Graphics, References, Citations, Negotiated Indirect Cost Rate Agreement (NICRA) if applicable, etc. (Note: material added in this section may not be evaluated as part of the competitive scoring process).

Summary Table of Evaluation Criteria
Criteria | Points
1. Work Plan/Soundness of Approach | 0-30 points.
a. Work Plan Approach-project objectives/background/tasks with timeline and timeframes | Up to 10 points.
b. Implementation of workplan | Up to 10 points.
c. Alignment of budget/budget justification | Up to 10 points.
2. Organizational Capacity/Qualifications | 0-20 points
a. Years of experience and processes employed in placemaking activities | Up to 10 points.
b. Key personnel/number and qualifications relating to placemaking—access to data for needs assessments | Up to 10 points.
3. Partnerships | 0-20 points.
a. Extent of existing partnerships (# of partners/public, private, philanthropic partners) | 0-10.
b. Value that partnerships will bring to placemaking project, including existing partners and leveraging new partners for the proposed project | 0-10.
4. Targeted Impacts | 0-20 points.
• Economically Distressed Communities
• Broadband Planning for Infrastructure/Deployment/Access
5. Performance Measures | 0-10 points.
Measures used for evaluating quality of life indicators and benchmarks used for measuring effectiveness | Up to 10 points.
Optional Innovation Seed Grant | 0-10 points.
Option 1—Innovation Seed Grant—offering seed grants for new and innovative projects highlighted in the Placemaking Plan; or | Up to 5 points or
Option 2—Innovation Seed Grant—offering seed grants for new and innovative projects highlighted in the Placemaking Plan that specifically address one or more of the Targeted Impact priorities | Up to 10 points.
Agency Discretionary Points (Note: Applicant does not need to provide additional information for this category). | 0-10 points.

C. Review and Selection Process

(1) Incomplete or ineligible applications. Applications that are incomplete or ineligible will not be considered for funding (Reference Part V and Part VI).

(2) The Reviewers. All eligible applications will be evaluated by an Application Review Panel using the criteria described in Part VI of this notice. Panel members will be appointed by RD and will be qualified to evaluate the applications based on the type of work proposed by the applicant.

(3) Selection of Qualifying Applications. Applications will be selected in the following order:

(a) First, the highest scoring application in each of the four Regions will be selected.

(b) Second, the remaining applications, regardless of Region, will be selected starting with the highest scoring application, until all available funds are exhausted.

(c) Applications, at or near the funding line, may be funded in part, if RD believes an appropriate benefit can result from partial funding and if the applicant agrees to the amount of partial funding. In the event RD considers partial funding to be appropriate, the applicant will be contacted to negotiate the final work plan and budget prior to award approval.

(4) Appeal Request. The applicant will be notified in writing regarding the reason(s) for any adverse decisions and will be provided a description of the options for review. Note that if the determination is reversed, either due to the discovery of an Agency error or through a formal appeal, funding is restricted to available FY 2021 funds.

(5) Cooperative Agreement. Applicants selected for funding will complete a Cooperative/Grant agreement suitable to Rural Business Cooperative Service, which outlines the terms and conditions of the Cooperative Agreement award. Pursuant to the agreement, funds may be released over the course of the Cooperative Agreement period in the form of a reimbursement for the performance of eligible, approved activities. The agreement may also include reporting requirements which, if not met, may result in a delay in reimbursement, disallowance of expenses, or a suspension of the Agreement.

(6) Reimbursement.

(a) SF-270, “Request for Advance or Reimbursement,” will be completed by the cooperator and submitted to RD along with supporting documentation.

(b) Upon receipt of a properly completed SF-270, payment will ordinarily be made within 30 days.

(c) Any change in the scope of the project, budget adjustments of more than 10 percent of the total budget, or any other significant change in the project must be reported to and approved by the approving official. Any change not approved may be cause for termination of the Cooperative Agreement.

VII. Federal Award Administration Information

A. Federal Award Notices

(1) Successful applicants will be notified in writing by the Agency with a Letter of Conditions (LOC). The LOC is a notice of selection and does not indicate that an award has been approved, nor is it an authorization to begin performance on the award. While there may be special conditions that apply on a case-by-case basis, the conditions as stated in Part VII, Section B (Administrative and National Policy Requirements) are standard for all successful applicants.

(2) Once the conditions described in the LOC have been met, the award will be approved through the execution of Form RD 4280-2 in conjunction with the Rural Development Cooperative Agreement (RDCA) Program Attachment. If an applicant is unable to meet the conditions of the award within 90 calendar days, the award will be withdrawn.

B. Administrative and National Policy Requirements

(1) The following requirements apply to grantees selected for this program:

(a) Complete Form RD 1942-46 “Letter of Intent to Meet Conditions.”

(b) Complete Form RD 1940-1, “Request for Obligations of Funds.”

(c) Complete FMMI Vendor Code Request Form.

(d) Provide a copy of your organization's Negotiated Indirect Cost Rate Agreement.

(e) Certify that all work completed for the award will benefit a rural area.

(f) Certify that you will comply with the Federal Funding Accountability and Transparency Act of 2006 and report information about subawards and executive compensation.

(g) Certify that the U.S. has not obtained an outstanding judgement against your organization in a Federal Court (other than in the United States Tax Court).

(h) Execute Form SF-424B, “Assurance—Non-Construction Programs.”

(i) Execute Form SF-LLL, “Disclosure Form to Report Lobbying,” if applicable, or certify that your organization does not lobby.

(2) The applicant must provide evidence of compliance with other federal statutes, including, but not limited to, the following:

(a) Debarment and suspension information as required in accordance with 2 CFR part 417 (Nonprocurement Debarment and Suspension) supplemented by 2 CFR part 180, if applies. The information required under section heading: “What information must I provide before entering into a covered transaction with a Federal agency?” located at 2 CFR 180.335 is part of OMB's Guidance for Grants and Agreements concerning Government-wide Debarment and Suspension.

(b) All of your organization's known workplaces by including the actual address of buildings (or parts of buildings) or other sites where work under the award takes place. Workplace identification is required under the drug-free workplace requirements in Subpart B of 2 CFR part 421, which adopts the Governmentwide implementation (2 CFR part 182) of the Drug-Free Workplace Act.

(c) 2 CFR parts 200 and 400 (Uniform Administrative Requirements, Cost Principles and Audit Requirements for Federal Awards).

(d) 2 CFR part 182 (Governmentwide Requirements for Drug-Free Workplace (Financial Assistance)) and 2 CFR part 421 (Requirements for Drug Free Workplace (Financial Assistance)).

(e) Executive Order 13166, “Improving Access to Services for Persons with Limited English Proficiency.” For information on limited English proficiency and agency-specific guidance, go to https://www.lep.gov.

(3) The following forms for acceptance of a federal award are now collected through your registration or annual recertification in SAM.gov in the Financial Assistance General Certifications and Representations section:

• Form RD 400-4, “Assurance Agreement.”

• Form AD-1047, “Certification Regarding Debarment, Suspension, and Other Responsibility Matters-Primary Covered Transactions.”

• Form AD-1048, “Certification Regarding Debarment, Suspension, Ineligibility and Voluntary Exclusion. Lower Tier Covered Transactions.”

• Form AD-1049, “Certification Regarding Drug-Free Workplace Requirements (Grants).”

• Form AD-3031, “Assurance Regarding Felony Conviction or Tax Delinquent Status for Corporate Applicants.”

C. Reporting

Grantees shall constantly monitor performance to ensure that time schedules are being met, projected work by time periods are being accomplished, and other performance objectives are being achieved.

(1) SF-PPR “Performance Progress Report,” must be submitted quarterly based on the following time periods: January 1-March 31, April 1-June 30, July 1-September 30, and October 1-December 31. Quarterly reports are due within 30 calendar days of the end of the reporting period. A final report is due within 90 calendar days of the completion of the project or the end of the period of performance, whichever comes first. Both quarterly and final performance reports must be submitted electronically to RD.

(2) Financial Report: Form SF-425, “Federal Financial Report” must be submitted quarterly based on the following time periods: January 1-March 31, April 1-June 30, July 1-September 30, October 1-December 31. Quarterly reports are due within 30 calendar days of the end of the reporting period. A final report is due within 90 calendar days of the completion of the project or the end of the period of performance, whichever comes first. Both quarterly and final reports must be submitted electronically to RD.

(3) Report Suitable for Public Distribution: A report suitable for public distribution that describes the accomplishments of the project is due within 90 calendar days of the completion of the project. There is no format prescribed for this report, but it is expected that it will be 1-2 pages in length and describe the project in such a way that a member of the public not familiar with the project would gain an understanding of the impact of the project.

VIII. Federal Awarding Agency Contacts

For further information, contact: Angela Callie at (202) 568-9738 or Gregory Dale (202) 568-9558, email: RD.RPIC@usda.gov. Persons with disabilities who require alternative means for communication should contact the USDA Target Center at (202) 720-2600 (voice).

IX. Other Information

A. Paperwork Reduction Act

In accordance with the Paperwork Reduction Act of 1995 (44 U.S.C. chapter 35), USDA requested that the Office of Management and Budget (OMB) conduct an emergency review of a new information collection that contains the Information Collection and Recordkeeping requirements contained in this notice by May 20, 2021. An emergency clearance approval for this information collection is due to the following conditions: (1) The time sensitive competitive solicitation application window commencing on May 27, 2021; (2) the urgency to obligate FY 2021 funds prior to September 30, 2021; and (3) being able to effectively implement the program as quickly as possible to benefit rural communities.

In addition to the emergency clearance, the regular clearance process is hereby being initiated to provide the public with the opportunity to comment under a full comment period, as the Agency intends to request regular approval from OMB for this information collection. Comments from the public on new, proposed, revised, and continuing collections of information help us assess the impact of our information collection requirements and minimize the public's reporting burden. Comments may be submitted regarding this information collection by the following method:

• Federal eRulemaking Portal: Go to https://www.regulations.gov, and in the lower “Search Regulations and Federal Actions” box, select “RBS” from the agency drop-down menu, then click “Submit.” In the Docket ID column, select Docket No. RBS-21-CO-OP-0011 to submit or view public comments and to view supporting and related materials available electronically. Information on using Regulations.gov, including instructions for accessing documents, submitting comments, and viewing the docket after the close of the comment period, is available through the site's “User Tips” link. Comments on this information collection must be received by July 26, 2021.

Copies of all forms, regulations, and instructions referenced in this NOFA may be obtained from RB-CS. Data furnished by the applicants will be used to determine eligibility for program benefits. Furnishing data is voluntary; however, failure to provide data could result in program benefits being withheld or denied.

Comments are invited on (a) whether the collection of information is necessary for the proper performance of the functions of the agency, including whether the information will have practical utility; (b) the accuracy of the agency's estimate of burden including the validity of the methodology and assumptions used; (c) ways to enhance the quality, utility and clarity of the information to be collected; and (d) ways to minimize the burden of the collection of information on those who are to respond, including responding through the use of appropriate automated, electronical, mechanical, other technological collection techniques, or other forms of information technology.

Title: Rural Development Co-operative Agreements.

OMB Control Number: 0570-0074.

Abstract: Pursuant to the Federal Agricultural Improvement Act of 1996 (Pub. L. 104-127), the U.S. Department of Agriculture (USDA) received authorization from Congress under 7 U.S.C. 2204b(b)(4) to enter into cooperative agreements for the purpose of improving the coordination and effectiveness of programs that benefit rural areas. This authority is referred to as the Rural Development Cooperative Agreement (RDCA) program. There are three agencies within USDA that administer programs that specifically target rural areas: The Rural Business-Cooperative Service (RB-CS), the Rural Housing Service (RHS), and the Rural Utilities Service (RUS).

Each year, USDA receives proposals from the public that are not in response to a specific program announcement. These proposals are called unsolicited proposals. If a proposal is related to one or more programs, it will be routed to the appropriated RD agency for review and possible consideration for a cooperative agreement using the RDCA authority. If the proposal is unique or innovative, then RD has authority to enter into a cooperative agreement without competition (see 2 CFR 415.1(d)(6)). Alternatively, USDA may issue an invitation to submit applications for a cooperative agreement using the RDCA authority. These proposals are called solicited proposals. Solicited proposals would typically be announced via a Federal Register Notice.

Estimate of Burden: Public reporting burden for this collection of information is estimated to average 1.65 hours per response.

Respondents: Regional consortia of higher education, academic health and research institutes, or economic development entities.

Estimated Number of Respondents: 100.

Estimated Number of Responses per Respondent: 10.

Estimated Total Annual Burden and Record Keeping Hours on Respondents: 1,650 hours.

Copies of this information collection can be obtained from MaryPat Daskal, Chief, Branch 1, Regulations Management Division, Rural Development Innovation Center, U.S. Department of Agriculture, 1400 Independence Ave. SW, Stop 1522, Washington, DC 20250. Phone: 202-720-7853.

All responses to this information collection and recordkeeping notice will be summarized and included in the request for OMB approval. All comments will also become a matter of public record.

B. Nondiscrimination Statement

In accordance with Federal civil rights law and U.S. Department of Agriculture (USDA) civil rights regulations and policies, the USDA, its agencies, offices, employees, and institutions participating in or administering USDA Programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at https://www.usda.gov/oascr/how-to-file-a-program-discrimination-complaint and at any USDA office, or write a letter addressed to USDA and provide in the letter all of the information requested in the form. To request a copy of the complaint form, call (866) 632-9992. Submit your completed form or letter to USDA by:

Mail: U.S. Department of Agriculture, Office of the Assistant Secretary for Civil Rights, 1400 Independence Avenue SW, Washington, DC 20250-9410; or

Email: OAC@usda.gov.

USDA is an equal opportunity provider, employer, and lender.

Justin Maxson,
Deputy Under Secretary, USDA Rural Development.

[FR Doc. 2021-10963 Filed 5-26-21; 8:45 am]

BILLING CODE 3410-XY-P